DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Bottlenose Dolphin Conservation Outreach Survey.

OMB Control Number: 0648-0594.

Form Number(s): NA.

Type of Request: Regular submission (revision of a current information collection).

Number of Respondents: 156.

Average Hours Per Response: 30 minutes.

Burden Hours: 79.

Needs and Uses: This request is for a revision of a current information collection.

The objective of these surveys is to assess the level of awareness on issues related to regulations preventing feeding/harassment of wild bottlenose dolphins, which are protected under the Marine Mammal Protection Act. In particular, the surveys are designed to determine what commercial businesses and the general public know about specific regulations prohibiting feeding and harassment of bottlenose dolphins, and how they gained their knowledge and/or perceptions on the topic. The first survey was conducted in Panama City, Florida, where numerous incidences of dolphin harassment and feeding are continually documented.Revision: The intent is to use this survey in one to two other geographic areas of the southeast region that are also “hot-spots” for dolphin harassment and feeding activities to gain a similar understanding and ensure outreach messages are appropriate for intended audiences.

National Marine Fisheries Service (NMFS) will request information from local residents, tourists, and commercial businesses through a one-time survey in the geographic location(s) identified in the revision supporting statement. This information, upon receipt, will be used to develop effective and better-targeted outreach efforts in order to enhance bottlenose dolphin conservation in the southeast United States.

Affected Public: Business or other for-profit organizations; individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: September 13, 2012.
Gwellnar Banks,
Management Analyst, Office of the Chief Information Officer.

[FR Doc. 2012-22944 Filed 9-17-12; 8:45 am]

BILLING CODE 3510-22-P